DEPARTMENT OF HEALTH AND HUMAN SERVICES

Call for Comments on the Draft Report of the Adult Immunization Working Group to the National Vaccine Advisory Committee on Adult Immunization: Complex Challenges and Recommendations for Improvement

AGENCY: National Vaccine Program Office, Office of the Assistant Secretary for Health, Office of the Secretary, Department of Health and Human Services.

ACTION: Notice.

SUMMARY: The National Vaccine Advisory Committee (NVAC) was established in 1987 to comply with Title XXI of the Public Health Service Act (Pub. L. 99-660) (Section 2105) (42 U.S. Code 300aa-5 (PDF—78 KB)). Its purpose is to advise and make recommendations to the Director of the National Vaccine Program on matters related to program responsibilities. The Assistant Secretary for Health (ASH) has been designated by the Secretary of Health and Human Services as the Director of the National Vaccine Program. The ASH has charged the NVAC “to develop recommendations for establishing a comprehensive, sustainable, national adult immunization program that will lead to vaccine-preventable disease reduction by improving adult immunization coverage levels.” The Adult Immunization Working Group (AIWG) of NVAC has developed a draft report and recommendations for the consideration of the NVAC. Individuals and organizations are encouraged to submit their comments on the draft report and recommendations. It is anticipated that the draft report and recommendations, as revised in accordance with public comment and stakeholder input, will be presented to the NVAC for deliberation and decision for adoption in mid- or late 2011.

DATES: To receive consideration, comments must be received no later than 5 p.m. EST on April 15, 2011.

ADDRESSES: (1) The draft report and recommendations are available on the Web at http://www.hhs.gov/nvpo/nvac/subgroups/adultimmunization.

(2) By electronic mail, comments can be e-mailed to Lauren Wu, National Vaccine Program Office, at lauren.wu@hhs.gov.

(3) By mail, comments can be submitted to: NVAC AIWG Report, c/o Lauren Wu, National Vaccine Program Office, 200 Independence Avenue, Room 715-H, Washington, DC 20201.

FOR FURTHER INFORMATION CONTACT: Mark Grabowsky, National Vaccine Program Office, 200 Independence Avenue, Room 715-H, Washington, DC 20201, Attn: NVAC Adult Immunization Working Group, Telephone (202) 260-2325; Fax: (202) 690-4631; E-mail: mark.grabowsky@hhs.gov.

SUPPLEMENTARY INFORMATION: Over the past two decades, numerous reports and sets of recommendations to address the suboptimal immunization status of adults have been developed. These have been issued by a number of groups, including the NVAC in 1990, 1994, 1997 and 2004; the Institute of Medicine; a 2010 collaboration in between Trust for America's Health, the Infectious Diseases Society of America, and the Robert Wood Johnson Foundation; the 2007 National Immunization Congress; as well as by other groups of independent experts in the field working with Federal agencies. Despite these prior efforts, previous reports and recommendations have not resulted in sufficient improvements in the current status of adult immunization in the U.S. Additionally, recent research has helped to better identify additional barriers to adult immunization, and lessons learned from recent public health experiences—such as the 2009-10 H1N1 pandemic—make clear the need for public health infrastructure for adult vaccines. Prior recommendations have provided the AIWG with examples of successes and opportunities for improvement.

In 2009, the NVAC issued a report directed to Federal agencies' adult immunization programs (http://www.hhs.gov/nvpo/nvac/subgroups/nvacadultimmunizationsworkinggroupjune2009). The current draft report represents the work of the NVAC on phase two of this process, a broad examination of the national adult immunization program in accordance with the charge “to develop recommendations for establishing a comprehensive, sustainable, national adult immunization program that will lead to vaccine-preventable disease reduction by improving adult immunization coverage levels.” The NVAC includes representatives from public health practitioners, medical providers, health plan payers, consumers, vaccine manufacturers, and HHS agencies. Through review of previous recommendations to improve adult immunization, a comprehensive literature review of barriers to adult immunization, and identification of gaps in the current adult vaccination and immunization system, the AIWG developed draft recommendations to achieve the charge as noted above.

The draft report describes the vaccine-preventable disease burden among adults, the current state of the adult immunization infrastructure, barriers to adult immunization, and the conclusions of the AIWG from these findings. From these conclusions, the AIWG makes 3 recommendations: (1) That there be national leadership for an adult immunization program, (2) That there be resources allocated for a national adult immunization program and action plan implementation, and (3) That a national strategic plan be developed for adult immunization. The report also provides recommended components of a national adult immunization program to be included in an action plan that fall under 5 categories: General infrastructure, access, provider- or system-based interventions, increasing community demand, and research needs.

The final revision of this report will be shared with the NVAC for their deliberation and decision for adoption. Should the NVAC decide to adopt these recommendations, the report will then become a report of the NVAC to the Assistant Secretary for Health.

Dated: March 1, 2011.
Bruce Gellin,
Director, National Vaccine Program Office.

[FR Doc. 2011-4879 Filed 3-3-11; 8:45 am]

BILLING CODE 4150-44-P